DEPARTMENT OF TRANSPORTATION

Pipeline and Hazardous Materials Safety Administration

Office of Hazardous Materials Safety: Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 15, 2009.

Address Comments To: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington DC or at http://dms.dot.gov.

This notice of receipt of applications for special permit is published in accordance with Part 107 of the Federal hazardous materials transportation law (49 U.S.C. 5117(b); 49 CFR 1.53(b)).

Issued in Washington, DC, on March 06, 2009.
Delmer F. Billings,
Director, Office of Materials Hazardous, Special Permits and Approvals.

Application number | Docket number | Applicant | Regulation(s) affected | Nature of special permits thereof
New Special Permits
14812-N |  | National Aeronautics and Space Administration (NASA), Washington, DC | 49 CFR 173.62 Packing Instruction 134 | To authorize the transportation in commerce of certain Division 1.4C cartridge power devices which are installed in a spacecraft and packaged in a non-DOT specification packaging. (mode 1).
14813-N |  | Organ Recovery Systems, Des Plaines, IL | 49 CFR 175.9(e)(5) | To authorize the transportation of the LifePort Kidney Transporter by air without being accompanied by a person qualified to operate it. (modes 4, 5).
14814-N |  | National Aeronautics and Space Administration, Houston, TX (NASA) | 49 CFR 173.302a | To authorize the transportation in commerce of certain Division 2.2 compressed gases in non-DOT specification cylinders to support the International Space Station Human Research Facility Gas Delivery System. (modes 1, 2, 3, 4, 5).
14817-N |  | Questar, Inc., North Canton, OH | 49 CFR 173.12(b)(2) | To authorize the manufacture, marking, sale and use of a corrugated fiberboard box for use as the outer packaging for lab pack applications in accordance with 49 CFR 173.12(b). (mode 1).
14818-N |  | Fleck Controls, LLC, Chardon, OH | 49 CFR 173.302a and 173.306(g) | To authorize the transportation in commerce of non-DOT specification cylinders under the exception provided for water pump system tanks under in 49 CFR 173.306(g). (modes 1, 2, 3).
New Special Permits
14822-N |  | Oiltanking Joliet LLC, Channahon, IL | 49 CFR 177.834(i)(3) | To authorize personnel to observe loading and unloading of cargo tanks by viewing video camera monitors in a control center instead of being physically located within 25 feet of the cargo tanks. (mode 1).
14823-N |  | FedEx Ground Package System, Inc., Moon Township, PA | 49 CFR 172.202; 172.203(c), (k), (m); 172.301; 172.400; 172.302(c) | To authorize the return shipment by motor vehicle of hazardous materials that have been accepted, transported, and subsequently determined to be non-compliant with the Hazardous Materials Regulations shipping paper, marking or labeling requirements. (mode 1).

[FR Doc. E9-5506 Filed 3-13-09; 8:45 am]

BILLING CODE 4909-60-M